DEPARTMENT OF DEFENSE

Department of the Navy

Notice of Intent To Grant Exclusive Patent License; Diversified Technology and Development, Inc; Correction

AGENCY: Department of the Navy, DOD.

ACTION: Notice; correction.

SUMMARY: The Department of the Navy published a document in the Federal Register of May 30, 2003, giving notice of its intent to grant to Diversified Technology and Development, Inc. a revocable, nonassignable, exclusive license in the United States, to Navy Case No. 83860 and Navy Case No. 84146 entitled “Internal Locking Device for Use on Magazine Doors.” The document contained an incorrect address and incorrect point of contact information.

FOR FURTHER INFORMATION CONTACT: Kurt Buehler, (805) 982-4886.

Correction

In the Federal Register of May 30, 2003, in FR Doc. 03-13586, on page 32467, in the second column, correct the ADDRESS caption and FOR FURTHER INFORMATION CONTACT captions to read:

ADDRESS: Written objections are to be filed with Kurt Buehler, NFESC, Code 423, 1100 23rd Ave., Port Hueneme, CA 93043-4370.

FOR FURTHER INFORMATION CONTACT: Mr. Kurt Buehler, Office of Research and Technology Applications, NFESC, Code 423, 1100 23rd Ave., Port Hueneme, CA 93043-4370, telephone (805) 982-4886.

Dated: July 21, 2003.
E.F. McDonnell,
Major, U.S. Marine Corps, Federal Register Liaison Officer.

[FR Doc. 03-19210 Filed 7-28-03; 8:45 am]

BILLING CODE 3810-FF-P